DEPARTMENT OF ENERGY

10 CFR Part 440

[Docket No. EEWAP0515]

RIN 1904-AB97

Weatherization Assistance Program for Low-Income Persons

AGENCY: Office of Energy Efficiency and Renewable Energy, U.S. Department of Energy.

ACTION: Proposed rule; extension of comment period, notice of public meeting.

SUMMARY: The U.S. Department of Energy (DOE) will be holding a public meeting on the Notice of Proposed Rulemaking (NOPR) for the Weatherization Assistance Program (WAP) published on May 21, 2009. In the NOPR, DOE proposed to amend the eligibility requirements applicable to multi-unit buildings under the Weatherization Assistance Program for Low-Income Persons. Under the proposed rule, if a multi-unit building is under the Qualified Assistance Housing Program or Public Housing Program, identified by the U.S. Department of Housing and Urban Development (HUD), and included on a list published by DOE, that building would meet certain income and benefit eligibility requirements under the Weatherization Assistance Program without the need for further evaluation or verification. Also under the proposed rule, if a multi-unit building includes units that participate in the Low Income Housing Tax Credit Program, is identified by HUD, and included on a list published by DOE, that building would meet the income eligibility requirements of the Weatherization Assistance Program without the need for further evaluation or verification. The proposed rule is intended reduce the procedural burdens on evaluating applications from buildings that are part of HUD public and assisted housing and U.S. Department of Treasury tax credit programs.

DATES: The comment period for the NOPR published at 74 FR 23804, May 21, 2009, is extended to July 6, 2009. DOE will hold a public meeting, on Thursday, June 18, 2009, from 11 a.m. to 5 p.m. EDT to discuss the WAP proposed rule. This meeting is open to the public and will also be available as a webinar/conference call.

ADDRESSES: The public meeting and webinar will be held at the U.S. Department of Energy, Forrestal Building, Room 8E-069, 1000 Independence Avenue, SW., Washington, DC 20585-0121.

FOR FURTHER INFORMATION CONTACT: Gil Sperling, U.S. Department of Energy, Office of Energy Efficiency and Renewable Energy, Weatherization Assistance Program, EE-2K, 1000 Independence Avenue, SW., Washington, DC 20585-0121, (202) 287-1644, e-mail: Gil.Sperling@ee.doe.gov, or Chris Calamita, U.S. Department of Energy, Office of the General Counsel, Forrestal Building, GC-72, 1000 Independence Avenue, SW., Washington, DC 20585, (202) 586-9507, e-mail: Christopher.Calamita@hq.doe.gov.

SUPPLEMENTARY INFORMATION:

I. Background

On May 21, 2009, DOE published a NOPR proposing to amend the regulations for the Weatherization Assistance Program. 74 FR 23804. DOE believes that the proposed rule would reduce the procedural burdens on evaluating the eligibility of buildings that are part of HUD assisted housing and U.S. Department of Treasury tax credit programs for the purpose of the Weatherization Assistance Program.

II. Meeting Participation

DOE must receive requests to present or speak at the public meeting/webinar no later than 4 p.m., Wednesday, June 17, 2009. DOE must receive a signed original and an electronic copy of statements to be given at the public meeting no later than 4 p.m., Tuesday, June 16, 2009. Please note that foreign nationals visiting DOE Headquarters are subject to advance security screening procedures, requiring advance notice. If you are a foreign national and wish to participate in the public meeting, please inform DOE as soon as possible and no later than 5 p.m. Friday, June 12, 2009, by contacting Ms. Brenda Edwards at (202) 586-2945, or e-mail: brenda.edwards@ee.doe.gov.

The meeting is open to the public. DOE invites participation by all interested parties. For information on the agenda, bridge line and Web link for the conference call of June 18, 2009, please send an e-mail to wxhudnopr@ee.doe.gov. For information on facilities or services for individuals with disabilities or to request special assistance, please e-mail your request to wxhudnopr@ee.doe.gov by Tuesday, June 16, 2009. Please note that participants will need to be pre-cleared in advance of the meeting in order to enter the DOE headquarters building. By 4 p.m. EDT, Wednesday, June 17, 2009, e-mail wxhudnopr@ee.doe.gov, if you plan to attend the meeting to facilitate the pre-clearance process.

Conduct of Public Meeting: DOE will designate a DOE official to preside at the public meeting and may also use a professional facilitator to aid discussion. Representatives from HUD will participate in the discussions. The meeting will not be a judicial or evidentiary-type public hearing. A court reporter will be present to record and transcribe the proceedings. DOE reserves the right to schedule the order of presentations and to establish the procedures governing the conduct of the public meeting. After the public meeting, interested parties may submit further comments about the proceedings, and any other aspect of the proposed rulemaking, by 5 p.m. EDT, Monday, July 6, 2009. The public meeting will be conducted in an informal, conference style. Each participant will be allowed to make a prepared general statement (within time limits determined by DOE) before discussion of a particular topic. DOE will permit other participants to comment briefly on any general statements. At the end of all prepared statements on a topic, DOE will permit participants to clarify their statements briefly and comment on statements made by others. Participants should be prepared to answer questions by DOE and by other participants concerning these issues. DOE representatives may also ask questions of participants concerning other matters relevant to the proposed rulemaking. The official conducting the public meeting will accept additional comments or questions from those attending, as time permits. The presiding official will announce any further procedural rules or modification of the above procedures that may be needed for proper conduct of the public meeting.

Issued in Washington, DC, on June 8, 2009.
John M. Lushetsky,
Acting Deputy Assistant Secretary for Energy Efficiency, Office of Technology Development, Energy Efficiency and Renewable Energy.

[FR Doc. E9-13836 Filed 6-11-09; 8:45 am]

BILLING CODE 6450-01-P